DEPARTMENT OF JUSTICE

[OMB Number 1110-0026]

Agency Information Collection Activities; Proposed eCollection eComments Requested; Revision of a Currently Approved Collection; Federal Firearms Licensee (FFL) Enrollment/National Instant Criminal Background Check System (NICS) E-Check Enrollment Form, Federal Firearms Licensee (FFL) Officer/Employee Acknowledgment of Responsibilities Under the NICS Form, Responsibilities of a Federal Firearms Licensee (FFL) Under the National Instant Criminal Background Check System (NICS) Form

AGENCY: Criminal Justice Information Services Division, Federal Bureau of Investigation, Department of Justice.

ACTION: 60-Day notice.

SUMMARY: The Department of Justice (DOJ), Federal Bureau of Investigation (FBI), Criminal Justice Information Services (CJIS) Division, will be submitting the following information collection request to the Office of Management and Budget (OMB) for review and approval in accordance with the Paperwork Reduction Act of 1995. The proposed information collection is published to obtain comments from the public and affected agencies.

DATES: Comments are encouraged and will be accepted for 60 days until June 18, 2019.

FOR FURTHER INFORMATION CONTACT: If you have additional comments especially on the estimated public burden or associated response time, suggestions, or need a copy of the proposed information collection instrument with instructions or additional information, please contact the Federal Bureau of Investigation, Criminal Justice Information Services Division, National Instant Criminal Background Check System Section, Module A-3, 1000 Custer Hollow Road, Clarksburg, West Virginia 26306, or email NICS@fbi.gov. Attention: OMB PRA 1110-0026. Written comments and/or suggestions can also be sent to the Office of Management and Budget, Office of Information and Regulatory Affairs, Attention Department of Justice Desk Officer, Washington, DC 20503. Additionally, comments may be submitted via email to OIRA_submission@omb.eop.gov.

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of Information Collection: Revision of a currently approved collection.

(2) Title of the Form/Collection: Federal Firearms Licensee (FFL) Enrollment/National Instant Criminal Background Check System (NICS) E-Check Enrollment Form, Federal Firearms Licensee (FFL) Officer/Employee Acknowledgment of Responsibilities under the NICS Form, Responsibilities of a Federal Firearms Licensee (FFL) under the National Instant Criminal Background Check System (NICS) Form.

(3) Agency form number: 1110-0026.

(4) Affected public who will be asked or required to respond, as well as a brief abstract:

Primary: Any Federal Firearms Licensee (FFL) or State Point of Contact (POC) requesting access to conduct National Instant Criminal Background Check System (NICS) checks telephonically or by the internet through the NICS E-Check.

Brief Abstract: The Brady Handgun Violence Prevention Act of 1993 required the United States Attorney General to establish a national instant criminal background check system that any FFL may contact, by telephone or by other electronic means, for information to be supplied immediately, on whether receipt of a firearm to a prospective purchaser would violate state or federal law. Information pertaining to licensees who may contact the NICS is being collected to manage and control access to the NICS and to the NICS E-Check, to ensure appropriate resources are available to support the NICS, and also to ensure the privacy and security of NICS information. More information can be obtained at https://www.fbi.gov/services/cjis/nics.

(5) An estimate of the total number of respondents and the amount of time estimated for an average respondent to respond:

It is estimated that 250 FFLs enroll with the NICS per month for a total of 3,000 enrollments per year.The average response time for reading the directions for the National Instant Criminal Background Check System (NICS) Federal Firearms Licensee (FFL)Enrollment/NICS E-Check Enrollment Form is estimated to be two minutes; time to complete the form is estimated to be three minutes; and the time it takes to assemble, mail, or fax the form to the FBI is estimated to be three minutes, for a total of eight minutes. The average hour burden for this specific form is 3,000 × 8 minutes/60 = 400 hours.

The FFL Officer/Employee Acknowledgment of Responsibilities Form under the NICS takes approximately three minutes to read the responsibilities and two minutes to complete the form, for a total of five minutes. The average hour burden for this specific form is 3,000 × 5 minutes/60 = 250 hours.

The Responsibilities of an FFL under the NICS Form takes an additional two minutes to read which would be 3,000 × 2 minutes/60 = 100 hours.

The entire process of reading the material and completing both forms would take 15 minutes per respondent. The average hour burden for completing both forms and reading the material would be 3,000 × 15/60 = 750 hours.

(6) An estimate of the total public burden (in hours) associated with the collection: The entire process of reading the material and completing both forms would take 15 minutes per respondent. The average hour burden would be 3,000 × 15/60 = 750 hours.

If additional information is required contact: Melody Braswell, Department Clearance Officer, United States Department of Justice, Justice Management Division, Policy and Planning Staff, Two Constitution Square, 145 N Street NE, Suite 3E.405B, Washington, DC 20530.

Dated: April 16, 2019.
Melody Braswell,
Department Clearance Officer, PRA, U.S. Department of Justice.

[FR Doc. 2019-07872 Filed 4-18-19; 8:45 am]

BILLING CODE 4410-02-P